DEPARTMENT OF TRANSPORTATION

Coast Guard

33 CFR Part 100

[CGD07-01-043]

RIN 2115-AE46

Special Local Regulations; Sarasota Bay, Sarasota, Florida

AGENCY: Coast Guard, DOT.

ACTION: Temporary final rule.

SUMMARY: The Coast Guard is temporarily modifying the special local regulation for the Suncoast Kilo Run in Sarasota, FL. The sponsor of the event recently changed the event date. These regulations are needed to provide for the safety of life on navigable waters during the event.

DATES: This rule is effective from 8 a.m. June 29, 2001 to 1 p.m. June 29, 2001.

ADDRESSES: Comments and material received from the public, as well as documents indicated in this preamble as being available in the docket, are part of docket CGD07-01-043 and are available for inspection or copying at Commander, Coast Guard Group St. Petersburg, 600 8th Avenue, SE., St. Petersburg, FL 33701, between 9 a.m. and 4 p.m., Monday through Friday, except Federal holidays.

FOR FURTHER INFORMATION CONTACT: LTJG Steven Stewart, Coast Guard Group St. Petersburg, Florida at (727) 824-7553.

SUPPLEMENTARY INFORMATION:

Regulatory Information

We did not publish a notice of proposed rulemaking (NPRM) for this regulation. Under 5 U.S.C. 553(b)(B), the Coast Guard finds that good cause exists for not publishing an NPRM. Publishing an NPRM is unnecessary and contrary to public safety interests because immediate action is needed to protect the public and because this temporary rule only modifies an existing published regulation.

Under 5 U.S.C. 553(d)(3), the Coast Guard finds that good cause exists for making this rule effective less than 30 days after publication in the Federal Register. This is because entry into the regulated area will only be prohibited for approximately five hours on the day of the event, and traffic will be able to safely pass around the race area. Additionally, delaying the effective date would be contrary to the public interest because it is needed on the day of the event in order to protect the safety of the race participants and the general public.

Background and Purpose

The Suncoast Offshore Racing Association is sponsoring a sanctioned American Power Boat Association World Record Kilo Event, with approximately 50 power boats, ranging in length from 21 to 50 feet participating in the 2001 Suncoast Kilo Run. The race will take place in Sarasota Bay on June 29, 2001. There will also be approximately two hundred (200) spectator craft. A Special Local Regulation exists at 33 CFR 100.718 for this event, which is usually held in July. However, the sponsor changed the date for this year. These regulations are intended to promote safe navigation on the waters of Sarasota Bay by controlling the traffic entering, exiting, and traveling within the regulated area.

Regulatory Evaluation

This regulation is not a significant regulatory action under section 3(f) of Executive Order 12866 and does not require an assessment of potential costs and benefits under section 6(a)(3) of that order. The Office of Management and Budget has exempted it from review under that order. It is not significant under the regulatory policies and procedures of the Department of Transportation (DOT) (44 FR 11040; February 26, 1979). The Coast Guard expects the economic impact of this proposal to be so minimal that a full Regulatory Evaluation under paragraph 10e of the regulatory policies and procedures of DOT is unnecessary. Entry into the regulated area is prohibited for only approximately five hours on the day of the event and traffic can safely pass around the race area.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This special local regulation will not have a significant economic impact on a substantial number of small entities for the following reasons. This regulation will only be in effect for five hours on the day of the event. Further traffic can safely pass around the regulated area.

The Coast Guard certifies under 5 U.S.C. 605(b) that this rule will not have a significant economic impact on a substantial number of small entities.

Assistance for Small Entities

Under section 213(a) of the Small Business Regulatory Enforcement Fairness Act of 1996 (Public Law 104-221), we want to assist small entities in understanding this rule so that they can better evaluate its effects on them and participate in the rulemaking process. If the rule will affect your small business, organization, or government jurisdiction and you have questions concerning its provisions or options for compliance, please contact the person listed under FOR FURTHER INFORMATION CONTACT for assistance in understanding this rule. We also have a point of contact for commenting on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no collection of information requirements under the Paperwork Reduction Act of 1995 (44 U.S.C. 3501-3520).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard has considered the environmental impact of this action and has determined under Figure 2-1, paragraph 34(h) of Commandant Instruction M16475.1C, that this rule is categorically excluded from further environmental documentation.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

List of Subjects in 33 CFR Part 100

Marine safety, Navigation (water), Reporting and recordkeeping requirements, Waterways.

For the reasons discussed in the preamble, the Coast Guard amends 33 CFR part 100 as follows:

PART 100—[AMENDED]

1. The authority citation for part 100 continues to read as follows:

Authority: 33 U.S.C. 1233 through 1236; 49 CFR 1.46; 33 CFR 100.35.

2. Temporarily suspend § 100.718 and add temporary § 100.35T-07-043 to read as follows:

§ 100.35T-07-043 Annual Suncoast Kilo Run; Sarasota Bay, Sarasota, FL

(a) Regulated Area: The regulated area is established in Sarasota Bay with the northwest corner point at Whale Key, position 27°23′53″ N, 082°37′46″ W, extending to the northeast corner point at Bayshore Gardens Channel, position 27°25′11″ N, 082°35′45″ W, extending to the southeast corner point at Whitaker Bayou, position 27°21′22″ N, 082°33′14″ W, and then to the southwest corner point at Quick Point, position 27°20′18″ N, 082°34′36″ W. All coordinates referenced use datum: NAD 83.

(b) Special local regulations. (1) In accordance with these regulations, the regulated area is designated as a “no wake” zone. Spectator craft are permitted into the area, but are prohibited from entering the race course areas described in (b)(2) of this section.

(2) Inside the “no wake” zone are two designated areas surrounding the primary and alternate race courses. Primary course “A” is bounded by a line connecting the northeast corner point at position 27°22′10″ N, 082°36′09″ W, a southeast corner point at position 27°21′31″ N, 082°35′37″ W, a southwest corner point at position 27°21′27″ N, 082°35′48″ W, and a northwest corner point at position 27°22′05″ N, 082°36′16″ W. Alternate course “B” is bounded by a line connecting the northeast corner point at position 27°23′11″ N, 082°34′31″ W, a southeast corner point at position 27°22′35″ N, 082°34′03″ W, a southwest corner point at position 27°22′31″ N, 082°34′08″ W, and a northwest corner point at position 27°23′09″ N, 082°34′38″ W. All coordinates referenced use datum: NAD 83.

(3) Entry into the regulated area shall be in accordance with this regulation.

(c) Effective Dates. This rule is effective 8 a.m. June 29, 2001 until 1 p.m. June 29, 2001.

Dated: May 24, 2001.
G.W. Sutton,
Captain U.S. Coast Guard, Commander, Seventh Coast Guard District Acting.

[FR Doc. 01-14229 Filed 6-5-01; 8:45 am]

BILLING CODE 4910-15-U